DEPARTMENT OF AGRICULTURE

Forest Service

Alpine, Black Mesa, Clifton, and Lakeside Ranger Districts of the Apache-Sitgreaves National Forests, Mogollon Rim and Red Rock Ranger Districts of the Coconino National Forest and Verde Ranger District of the Prescott National Forest; Show Low South Land Exchange

AGENCY: Forest Service, USDA.

ACTION: Notice of intent to prepare an environmental impact statement.

SUMMARY: The Forest Service, USDA will prepare an environmental impact statement (EIS) on a proposal to exchange approximately 1,028 acres of Federal lands for approximately 1,555 acres of non-Federal lands. The EIS will analyze the proposed exchange of the Federal lands described as Sierra Blanca Ranch Adjustment, City of Show Low, Show Low South, and Soda Springs Ranch Adjustment parcels for the non-Federal lands described as Sierra Blanca Ranch, Sprucedale, Alder Peak, Juan Miller, Leonard Canyon, Soda Springs Ranch, Cherry, Sponseller Ranch, and Railroad parcels. The Federal and non-Federal lands proposed for exchange are located in Apache, Coconino, Greenlee, Navajo, and Yavapai Counties, Arizona. The affected Forest Service units are the Alpine, Black Mesa, Clifton, and Lakeside Ranger Districts of the Apache-Sitgreaves National Forests, the Mogollon Rim and Red Rock Ranger Districts of the Coconino National Forest, and the Verde Ranger District of the Prescott National Forest. The exchange would occur with First American Title Insurance Company, Trustee, under Trust 8667, on behalf of SL Land Exchange, LLC. Implementation of the proposed exchange is scheduled for May 2010. The Apache-Sitgreaves National Forest Supervisor invites the public to submit comments on the proposal and suggestions on the scope of the proposed exchange. The Forest Supervisor also invites the public to participate in the environmental analysis and decision-making process for the proposed exchange of lands.

DATES: Comments concerning the scope of the analysis must be received 30 days from date of publication in the Federal Register. The draft environmental impact statement is expected January 2010 and the final environmental impact statement is expected March 2010.

ADDRESSES: Send written comments to Bruce Buttrey, Natural Resources Specialist, Springerville Ranger District, Apache-Sitgreaves National Forest, c/o EnviroSystems Management, Inc, 23 East Fine Avenue, Flagstaff, Arizona 86001. Comments may also be sent via e-mail to comments-southwestern-apache-sitgreaves@fs.fed.us, or via facsimile to (928) 333-4182.

It is important that reviewers provide their comments at such times and in such a way that they are useful to the Agency's preparation of the EIS. Therefore, comments should be provided prior to the close of the comment period and should clearly articulate the reviewer's concerns and contentions. The submission of timely and specific comments can affect a reviewer's ability to participate in subsequent administrative review or judicial review.

Comments received in response to this solicitation, including names and addresses of those who comment, will be part of the public record for this proposed action. Comments submitted anonymously will be accepted and considered; however, anonymous comments will not provide the respondent with standing to participate in subsequent administrative review or judicial review.

FOR FURTHER INFORMATION CONTACT: Bruce Buttrey, Natural Resource Specialist, at bbuttrey@fs.fed.us or (928) 331-4372.

Individuals who use telecommunication devices for the deaf (TDD) may call the Federal Information Relay Service (FIRS) at 1-800-877-8339 between 8 a.m. and 8 p.m., Eastern Time, Monday through Friday.

SUPPLEMENTARY INFORMATION:

Purpose and Need for Action

The proposal to exchange lands in the Apache-Sitgreaves, Coconino, and Prescott National Forests responds to the Forest Service's need for consolidation of Federal land ownership patterns and the need to enhance management of the public's natural resources. There is a need to acquire lands that (1) protect habitat for several threatened, endangered, and sensitive species, (2) facilitate public access to Federal lands, (3) improve wetlands, floodplains, and riparian areas, (4) decrease the complexity of maintaining property boundaries, and (5) improve the efficiency of resource management by focusing the Forest's funding and staff on consolidated ownerships.

Proposed Action

The Forest Supervisor proposes to exchange approximately 1,028 acres of Federal lands for approximately 1,555 acres of non-Federal lands. The Federal lands proposed for exchange are located in Apache, Navajo, and Yavapai Counties, Arizona; the non-Federal lands proposed for exchange are located in Apache, Coconino, Greenlee, Navajo, and Yavapai Counties, Arizona. The affected Forest Service units are the Alpine, Black Mesa, Clifton, and Lakeside Ranger Districts of the Apache-Sitgreaves National Forests, the Mogollon Rim and Red Rock Ranger Districts of the Coconino National Forest, and the Verde Ranger District of the Prescott National Forest. All acreages in this proposal are approximate. The United States of America would convey fee title to First American Title Insurance Company, Trustee, under Trust 8667 for the approximate acreages of the 2-acre Sierra Blanca Ranch Adjustment Parcel in the Apache National Forest; the 70-acre City of Show Low Parcel and the 948-acre Show Low South Parcel in the Sitgreaves National Forest; and the 8-acre Soda Springs Ranch Adjustment Parcel in the Coconino National Forest. First American Title Insurance Company, Trustee, under Trust 8667 would convey fee title to the United States of America for the approximate acreages of the 152-acre Sierra Black Ranch Parcel, 70-acre Sprucedale Parcel, 160-acre Alder Peak Parcel, and 120-acre Juan Miller Parcel in the Apache National Forest; the 118-acre Sponseller Parcel and 22-acre Railroad Parcel in the Sitgreaves National Forest; the 640.00 acre Leonard Canyon Parcel and 157-acre Soda Springs Ranch Parcel in the Coconino National Forest; and the 117-acre Cherry Parcel in the Prescott National Forest. The proposed exchange of lands does not require an amendment to the Apache-Sitgreaves National Forests Land and Resource Management Plan. Pursuant to the regulations for land exchanges (36 CFR 254.3(f)): “Lands acquired by exchange that are located within areas having an administrative designation established through the land management planning process shall automatically become part of the area within which they are located, without further action by the Forest Service, and shall be managed in accordance with the laws, rules, and regulations, and land and resource management plan applicable to such area.”

Possible Alternatives

A full range of alternatives to the proposed action, including a no-action alternative, will be considered during the environmental analysis and will be discussed in the EIS. The no-action alternative represents no change from the current pattern of land ownership, and it serves as the baseline for the comparison among the action alternatives.

Responsible Official

The Responsible Official is the Forest Supervisor, Apache-Sitgreaves National Forests. He will review all issues, alternatives, and environmental consequences associated with the analysis; consider all public comments and response; and comply with all policies, regulations, and laws in making a decision regarding the proposed exchange of lands documented in the final EIS for the Show Low South Land Exchange. The Responsible Official will document his decision and rationale for the decision in a Record of Decision (ROD). His decision will be subject to public notice, review, comment, and appeal under the Forest Service Regulations for Notice, Comment, and Appeal Procedures for National Forest System projects and Activities at 36 CFR part 215.

Nature of Decision To Be Made

The Forest Service will determine if the lands to be exchanged are desirable, in the public interest, and suitable for inclusion in the National Forest System. Land exchanges are discretionary, voluntary real estate transactions between the Federal and non-Federal parties.

The exchange can only be completed after the authorized officer determines that the exchanges meets the requirements at 36 CFR 254.3(b): (1) The resource values and the public objectives served by non-Federal lands and interests to be acquired are equal to or exceed the resource values and public objectives served by the Federal lands to be disposed, and (2) the intended use of the disposed Federal lands will not substantially conflict with established management objectives on adjacent Federal lands, including Indian Trust Lands. Lands will be exchanged on a value for value basis, based on current fair market value appraisals. The appraisal is prepared in accordance with the Uniform Appraisal Standards of Professional Appraisal Practice and the Uniform Appraisal Standards for Federal Land Acquisition. The appraisal prepared for the land exchange is reviewed by a qualified review appraiser to ensure that it is fair and complies with the appropriate standards. Under the Federal Land Policy and Management Act of 1976, all exchanges must be equal in value. Forest Service regulations at 36 CFR 254.3 require that exchanges must be of equal value or equalized pursuant to 36 CFR 254.12 by cash payment after making all reasonable efforts to equalize values by deleting lands. If lands proposed for exchange are not equal in value, either party may make them equal by cash payment not to exceed 25 percent of the Federal land value. A value consultation by the Regional Appraiser, November 25, 2008 concluded that it appears that the exchange is structured with flexibility to comply with the equal value requirement of the Federal Land Policy Management Act (FLMPA), as amended.

Scoping Process

This notice of intent initiates the scoping process, which guides the development of the environmental impact statement. Scoping will include notice in the Apache-Sitgreaves National Forests' Quarterly Schedule of Proposed Actions; distribution of letters to individuals, organizations, and agencies who have previously indicated interest in the Show Low South Land Exchange; communication with Tribal interests; and publication of news releases in the White Mountain Independent and The Arizona Republic, the newspaper of record, for Regional Forester decisions for the Apache-Sitgreaves National Forests. Any news releases will also be distributed to other local newspapers that serve areas affected by this proposal. A public meeting is scheduled for Tuesday, April 28, 2009, from 3 p.m. to 7 p.m. at the Show Low Library, 180 North 9th Street, Show Low, AZ 85901. This meeting and any future public meetings will have a notice of time and location provided to newspapers that serve areas affected by this proposal. The scoping process will include identifying any key issues and previously unknown potential environmental effects of the proposed action.

It is important that reviewers provide their comments at such times and in such manner that they are useful to the agency's preparation of the environmental impact statement. Therefore, comments should be provided prior to the close of the comment period and should clearly articulate the reviewer's concerns and contentions. The submission of timely and specific comments can affect a reviewer's ability to participate in subsequent administrative appeal or judicial review.

Dated: April 17, 2009.
Chris Knopp,
Forest Supervisor.

[FR Doc. E9-9617 Filed 4-27-09; 8:45 am]

BILLING CODE 3410-11-M